DEPARTMENT OF COMMERCE

Foreign-Trade Zones Board

[B-62-2019]

Foreign-Trade Zone (FTZ) 141—Rochester, New York; Authorization of Production Activity; Eastman Kodak Company (One-Time Use Cameras); Rochester, New York

On September 26, 2019, Eastman Kodak Company submitted a notification of proposed production activity to the FTZ Board for its facility within FTZ 141, in Rochester, New York.

The notification was processed in accordance with the regulations of the FTZ Board (15 CFR part 400), including notice in the Federal Register inviting public comment (84 FR 54837, October 19, 2019). On January 24, 2020, the applicant was notified of the FTZ Board's decision that no further review of the activity is warranted at this time. The production activity described in the notification was authorized, subject to the FTZ Act and the FTZ Board's regulations, including Section 400.14.

Dated: January 24, 2020.
Andrew McGilvray,
Executive Secretary.

[FR Doc. 2020-01839 Filed 1-30-20; 8:45 am]

BILLING CODE 3510-DS-P